TENNESSEE VALLEY AUTHORITY

Watts Bar Reservoir Land Management Plan, Loudon, Meigs, Rhea, and Roane Counties, TN

AGENCY: Tennessee Valley Authority (TVA).

ACTION: Issuance of Record of Decision.

SUMMARY: This notice is provided in accordance with the Council on Environmental Quality's regulations (40 CFR parts 1500 to 1508) and TVA's procedures for implementing the National Environmental Policy Act (NEPA). TVA has updated its 1988 land management plan (1988 Plan) for 16,036 acres of TVA public land on Watts Bar Reservoir in Tennessee. On November 19, 2009, the TVA Board of Directors (TVA Board) decided to adopt the preferred alternative (Alternative B, Modified Development and Recreation) identified in the final environmental impact statement (FEIS) for the Watts Bar Reservoir Land Management Plan (WBRLMP). Under the alternative adopted by the Board, TVA-managed public land has been allocated into broad use categories or “zones,” including Project Operations (Zone 2), Sensitive Resource Management (Zone 3), Natural Resource Conservation (Zone 4), Industrial (Zone 5), Developed Recreation (Zone 6), and Shoreline Access (Zone 7). The allocations were made in a manner that implements TVA's November 2006 Land Policy.

FOR FURTHER INFORMATION CONTACT: Amy Henry, NEPA Specialist, Environmental Permitting and Compliance, Tennessee Valley Authority, 400 West Summit Hill Drive, WT 11D, Knoxville, Tennessee 37902-1499; telephone (865) 632-4045 or e-mail abhenry@tva.gov.

SUPPLEMENTARY INFORMATION: Watts Bar Reservoir is a 67-year-old multipurpose impoundment of the Tennessee River formed by Watts Bar Dam and Lock, which is located at Tennessee River Mile 530 in Meigs and Rhea counties, Tennessee. TVA currently has available about 16,036 acres of TVA-controlled public land for management on Watts Bar Reservoir. At full pool, the reservoir shoreline length is 721 miles, and the surface area is about 39,000 acres. Approximately 47 percent of this shoreline is subject to deeded or implied rights of access across TVA land for water use facilities, shoreline corridors, and other uses.

In January 2009, TVA began developing a recovery plan for the December 2008 coal ash spill at Kingston Fossil Plant. Since the publication of the WBRLMP and FEIS in February 2009, nine parcels totaling 184 acres have been identified as being affected by the spill and consequently have been removed from the alternatives considered by the FEIS. The land use allocation of these affected parcels will be considered after the recovery planning process now in progress is completed.

TVA manages public land on Watts Bar Reservoir to protect and enhance natural resources, foster economic development, and improve the quality of life in the Tennessee Valley. The purpose of the land planning effort is to apply a systematic method of evaluating and identifying the most suitable use of public land under TVA stewardship. The TVA Board adopted Alternative B to provide for long-term stewardship and to fulfill TVA's responsibilities under the TVA Act of 1933. The WBRLMP will guide future decision-making and management of these reservoir properties.

Scoping

TVA published a notice of intent (NOI) to prepare an environmental impact statement in the Federal Register on February 25, 2004. To provide for better identification of issues and alternatives to be considered in the WBRLMP, a revised NOI was published in the Federal Register on April 18, 2004, extending the scoping comment period to June 30, 2004. After further discussion of the issues, another notice was published in the Federal Register on August 16, 2004, announcing a public meeting on September 28, 2004, and extending the public comment period to October 8, 2004. A total of 142 participants attended the public meeting in Harriman, Tennessee. TVA received 397 specific comments from 214 individuals and from federal, state, and local government agencies.

The majority of the public response to the NOI focused on the use of public lands for private residential and commercial development and the associated environmental impacts that could occur. Comments expressed concerns about the importance of water quality and terrestrial and aquatic ecology and questioned the need for development of public land given the success of similar projects on private land. TVA received comments that either supported or opposed land use allocations for specific land parcels, including the development of the former Clinch River Breeder Reactor (CRBR) site near Oak Ridge and the Lowe Branch site near Watts Bar Dam. TVA made an effort to identify parcels of land with sensitive resources that should be managed in a manner that ensures the protection of these resources. TVA used these comments to develop alternatives to be assessed in the 2005 draft EIS (DEIS). TVA assessed the impacts of the following alternatives: 2005 Alternative A (No Action) under which TVA would continue to use the 1988 Plan with minor updates; 2005 Alternative B (Balanced Development and Recreation) that provides a stronger emphasis on economic development and developed recreation; and 2005 Alternative C (Balanced Conservation and Recreation) that provides a stronger emphasis on natural resource conservation and informal recreation activities.

The notice of availability (NOA) of the 2005 WBRLMP and DEIS was published in the Federal Register on May 20, 2005, with the comment period closing on July 6, 2005. Approximately 85 people attended a public meeting on June 14, 2005, in Harriman, Tennessee, and TVA received 186 sets of comments from individuals, from federal, state, and local government agencies, and from interested organizations.

Public comments on the 2005 WBRLMP focused on opposition to using public lands for private residential and commercial development (2005 Alternative B) and the associated environmental impacts such as the loss of recreation opportunities and terrestrial habitat. Commenters provided input on the identified environmental issues: socioeconomic concerns, recreation, impacts to wildlife, and water quality on Watts Bar Reservoir. Commenters continued to question the economic need of further use of public lands for development. Those supporting 2005 Alternative B cited improved socioeconomic impacts through future commercial and economic developments.

Following the May 2005 release of the 2005 WBRLMP and DEIS, TVA instituted a moratorium on land disposal activities in order to develop a TVA Land Policy governing retention, disposal, and planning of public lands managed by the agency. The Land Policy was approved by the TVA Board in November 2006. Subsequently, the directives in the Land Policy through development of the three alternatives of the 2007 WBRLMP and amended DEIS: 2007 Alternative A (No Action), to continue to use the 1988 Plan with accrued updates; 2007 Alternative B (Modified Development and Recreation), to provide some suitable industrial use and developed recreation; and 2007 Alternative C (Modified Conservation and Recreation), to provide an emphasis on natural resource conservation and dispersed recreation activities.

The NOA for the 2007 WBRLMP and amended DEIS was published in the Federal Register on August 10, 2007, with the comment period closing on September 23, 2007. On August 21, 2007, 102 people attended a public meeting in Harriman, Tennessee, for the 2007 WBRLMP. There were 152 comments received from individuals; interested organizations; and federal, state, and local government agencies.

There continued to be comments opposing using public lands for private residential or commercial development, but to a lesser extent compared to the responses provided on the 2005 WBRLMP. The largest group of public comments on the 2007 amended DEIS focused on the types of use allocation for specific parcels of TVA-managed land, in particular the former CRBR site and Lowe Branch area. There were also many comments relating to the stewardship of public lands. Comments on the 2007 amended DEIS also addressed the identified environmental issues, such as water quality and wastewater discharges.

TVA reviewed and prepared responses to all of these comments. In some cases the FEIS was changed because of the information or issues presented. After considering all comments, the FEIS was completed and distributed to commenting agencies and the public. In the FEIS, TVA selected Alternative B as the preferred alternative. An NOA was published in the Federal Register on February 20, 2009.

Alternatives Considered

TVA considered three alternatives for managing public land under its control around Watts Bar Reservoir. Under all alternatives, TVA would continue to conduct environmental reviews prior to the approval of any proposed development or activity on public land to address site-specific issues, and future activities and land uses would be guided by TVA Land Policy. TVA land use allocations are not intended to supersede deeded landrights or land ownership.

No Action (Modified Alternative A): TVA would continue to use the existing 1988 Plan. While the 19 allocation categories defined by the 1988 Plan would continue to be used, activities and land uses not provided for by the Land Policy would not occur. About 5,900 acres of the TVA land on Watts Bar Reservoir (Project Operations and marginal strip) would continue to be administered by TVA but would remain unplanned.

Modified Development and Recreation (Modified Alternative B): The proposed Modified Alternative B would continue to provide suitable economic and recreation opportunities as prescribed by the TVA Land Policy. Under this alternative, TVA would allocate public land and deeded rights into “zones,” including Project Operations, Sensitive Resource Management, Natural Resource Conservation, Industrial, Developed Recreation, and Shoreline Access. Under this alternative, TVA would allocate lands to help promote some potential industrial development and commercial recreation by designating about 12 percent of the TVA-managed land available for planning on Watts Bar Reservoir for Industrial use as Zone 5 (357 acres) or Developed Recreation (1,549 acres) as Zone 6. In addition, 760 acres of the former CRBR site would be allocated to Project Operations as Zone 2. Approximately 7,525 acres (47 percent) of the land would be allocated for Sensitive and Natural Resource Management as Zone 3 or 4, allocations that also allow many dispersed recreation uses. Under this alternative, natural resource conservation and dispersed recreation predominate on reservoir lands; however, industrial development and developed recreation would occur on TVA land where those activities are most suitable and have the greatest opportunity for success. This alternative includes minor administrative changes and alterations to the boundaries of land parcels or changes to their allocation zones that reflect new information about deeded rights or natural resources.

Modified Conservation and Recreation (Modified Alternative C): Under Modified Alternative C, TVA would help promote conservation of natural resources and dispersed and commercial recreation by allocating about 8,766 acres of land for Sensitive Resource Management or Natural Resource Conservation and 1,350 acres for Developed Recreation (about 63 percent of TVA-managed land on Watts Bar Reservoir). Only those lands with existing industrial facilities, about 80 acres (less than 1 percent), would be allocated for Industrial use. This alternative would also include the minor administrative changes and alterations like Modified Alternative B. Under this alternative, natural resource conservation and dispersed recreation would predominate on TVA Watts Bar Reservoir land. Developed Recreation would occur on TVA land where those activities are most suitable and have the greatest opportunity for success.

In the FEIS, TVA considered the environmental consequences of the alternatives on a wide variety of environmental resources. Under any alternative, sensitive resources such as endangered and threatened federally and state-listed species, cultural resources, and wetlands would be protected.

Responses to Comments

TVA received comments on the FEIS from the U.S. Environmental Protection Agency (EPA), the East Tennessee Development District (ETDD), and the Tennessee State Historic Preservation Officer (TNSHPO). The U.S. Forest Service acknowledged receipt of the FEIS but offered no comments.

Although EPA found improvements in the FEIS, they continued to prefer Alternative C over the TVA preferred Alternative B. EPA believes that Alternative C is the environmentally preferred alternative, as its implementation would minimize the potential for impacts by limiting the amount of land allocation for industrial development. Regardless of the alternative selection, EPA recommended that TVA allow only industries and light commercial establishments requiring water access or supply to be located on the shorelands of Watts Bar Reservoir. EPA recommended that shoreline facilities should be monitored for water quality effects. EPA recommended that a 100-foot-buffer strip of natural vegetation and ground cover be retained between the shoreline and future developments. EPA also recommended that any public requests for residential shoreline development of TVA lands not be approved. Finally, EPA recommended that a Watts Bar Reservoir Watershed Management Plan should be developed by TVA and other prominent landowners or stakeholders in the watershed to protect reservoir water quality.

In recognition of EPA's comments, TVA will continue to emphasize water quality considerations in its land use and Section 26a decision-making processes for facilities on Watts Bar Reservoir. TVA believes that Alternative B best fits TVA's mission, which includes resource stewardship and economic development. Although natural resource conservation and dispersed recreation would predominate on the reservoir, some industrial development and developed recreation would occur on TVA-managed land suitable for those activities. As described in TVA's 2006 Land Policy, TVA will consider disposing of reservoir lands for industrial purposes or other businesses if the property is located in an existing industrial park or if the land is designated for such purposes in a reservoir land management plan. Preference will be given to businesses that require water access. TVA will consider leasing and granting easements over public lands for commercial recreation or public recreation purposes if the property is allocated for that use in a reservoir land management plan. Public lands managed by TVA will not be allocated or sold for residential or retail developments. Under TVA's Shoreline Management Policy, shoreline management buffer zones of 50 feet are established on qualifying shoreline access approvals when TVA-managed shoreline is used for private water use facilities.

In conjunction with EPA and Tennessee state agencies, TVA has developed and begun implementing a recovery plan that addresses remediation of the area affected by the ash spill at Kingston Fossil Plant. The appropriate future uses of impacted TVA-managed land and any operational recommendations will be considered after this recovery process is completed.

EPA's comment encouraging TVA to increase its stakeholder activities within the entire watershed community for the overall management of Watts Bar and other reservoirs is well taken. Water quality is a major consideration in the management of TVA reservoirs. In addition to its efforts to control pollutants via its shoreline and land use permitting, TVA routinely has watershed water quality initiatives underway across the Valley. Additionally, TVA often plays a major role as stakeholder in overall watershed management through its participation in numerous local and regional organizations focusing on watershed and water quality issues. TVA continues to monitor water quality in its reservoirs and streams and systematically uses these data to target its management efforts.

In other agency comments, the TNSHPO concurred that applying the existing programmatic agreement for Tennessee reservoir land management plans would address the mitigation of any adverse effects resulting from implementation of the WBRLMP. Consequently, the TNSHPO had no objection to the implementation of the alternatives in the WBRLMP. TVA will prepare a program and maintenance plan for WBRLMP within two years of its adoption. ETDD found no conflicts with its plans and programs or those of other agencies.

Decision

On November 19, 2009, the TVA Board decided to adopt the WBRLMP as described in Alternative B, excluding the 184 acres impacted by the December 2008 coal ash spill at Kingston, Tennessee. Additionally, changes in allocation to recognize existing deeded landrights would be subject to approval by the TVA Board or its designee, pending the completion of an appropriate environmental review.

TVA believes that implementation of Alternative B not only responds to community development and recreational development needs on Watts Bar Reservoir, but also recognizes and preserves the aesthetic and sensitive resources that make the reservoir unique. Under Alternative B, TVA would set aside parcels containing sensitive resources and habitats in the Sensitive Resource Management and Natural Resource Conservation categories. For lands where TVA proposes to consider development proposals, TVA adopts commitments that would further minimize the potential for adverse impacts to the environment. These commitments are listed below.

Environmentally Preferable Alternative

The preferred alternative is Modified Alternative B, which provides suitable opportunities for economic development and the conservation of natural resources. However, the environmentally preferred alternative is Alternative C, which has the least potential adverse impact on the environment of all the alternatives.

Environmental Commitments

TVA is adopting the following measures to minimize environmental impacts:

• All activities would be conducted in accordance with the stipulations defined in the programmatic agreement between TVA, the TNSHPO, and the Advisory Council on Historic Preservation.

• The construction of water use facilities and shoreline alterations within the marked limits of the safety landings and harbors would be prohibited.

• Requests for water use facilities on shoreline immediately upstream and downstream of the safety landings and harbors would continue to be reviewed to ensure that barge tows would have sufficient room to maneuver in and out of the safety landings and harbors without the risk of damaging private property.

• Because caves are extremely fragile and biologically significant, TVA has placed and would continue to maintain protective buffer zones around the known caves on TVA public land on Watts Bar Reservoir.

• As necessary and as practicable, visual buffers, between 50 feet and 100 feet wide, would be provided to screen timber harvest areas and commercial development from public thoroughfares and shorelines.

• Best management practices would be used on all soil-disturbing activities.

• Landscaping activities on developed properties would not include the use of plants listed as Rank 1, “Severe Threat,” Rank 2, “Significant Threat,” and Rank 3, “Lesser Threat,” on the Tennessee Exotic Pest Plant Council's list of Invasive Exotic Pest Plants in Tennessee (see Appendix D, Table D-7 of the FEIS).

• Revegetation and erosion-control work would utilize seed mixes comprised of native species or noninvasive nonnative species (Appendix D, Table D-8 of the FEIS).

• If TVA were to develop facilities at any Zone 5 (Industrial) or Zone 2 (Project Operations) site, the following measures would be employed to minimize the potential for effects on federally listed species:

1. TVA will consult with U.S. Fish and Wildlife Service (USFWS) in order to determine if the proposed action could affect listed mussels present in the area.

2. Preconstruction mussel surveys would be conducted in all areas of the Clinch River (Watts Bar Reservoir) that would be affected by construction and use of any future terminal-associated infrastructure (e.g., barge terminal, water intakes, or water outfalls).

3. Any listed mussels found during these surveys would be dealt with according to terms and conditions imposed as a result of the USFWS consultation process. These could consist of minimization or avoidance measures implemented during construction and operation or relocation of the mussels encountered if effects are unavoidable.

With the implementation of the above environmental protection measures, TVA has determined that adverse environmental impacts of future development proposals on the reservoir would be substantially reduced. Before taking actions that could result in adverse environmental effects or allowing such actions to occur on properties it controls, TVA would perform an appropriate site-specific environmental review to determine necessary mitigative measures or precautions. These protective measures represent all of the practicable measures to avoid or minimize environmental harm associated with the alternative adopted by the TVA Board.

Dated: February 1, 2010.
Anda A. Ray,
Senior Vice President, Environment & Technology.

[FR Doc. 2010-2642 Filed 2-5-10; 8:45 am]

BILLING CODE 8120-08-P